DEPARTMENT OF ENERGY

Federal Energy Regulatory Commission

Combined Notice of Filings #1

Take notice that the Commission received the following electric corporate filings:

Docket Numbers: EC13-26-000.

Applicants: Ohio Power Company, AEP Generation Resources Inc.

Description: Application for Authorization to Transfer Jurisdictional Assets under Section 203 of the Federal Power Act of Ohio Power Company and AEP Generation Resources Inc.

Filed Date: 10/31/12.

Accession Number: 20121031-5336.

Comments Due: 5 p.m. e.t. 11/30/12.

Docket Numbers: EC13-27-000.

Applicants: Appalachian Power Company, Wheeling Power Company.

Description: Application for Authorization to Transfer Jurisdictional Assets under Section 203 of the Federal Power Act of Appalachian Power Company and Wheeling Power Company.

Filed Date: 10/31/12.

Accession Number: 20121031-5337.

Comments Due: 5 p.m. e.t. 12/17/12.

Docket Numbers: EC13-28-000.

Applicants: Appalachian Power Company, Kentucky Power Company, AEP Generation Resources Inc.

Description: Application for Authorization to Transfer Jurisdictional Assets under Section 203 of the Federal Power Act of Appalachian Power Company, Kentucky Power Company and AEP Generation Resources Inc.

Filed Date: 10/31/12.

Accession Number: 20121031-5339.

Comments Due: 5 p.m. e.t. 12/17/12.

Docket Numbers: EC13-29-000.

Applicants: Kiowa Power Partners, LLC, Tenaska Energy, Inc., Tenaska Energy Holdings, LLC, Tenaska Oklahoma, Inc., Diamond Pittsburg, LP, Diamond Oklahoma, LP.

Description: Kiowa Power Partners, LLC, et al. Joint Application For Approval Under Section 203 of the Federal Power Act and Request for Shortened Comment Period and Expedited Action.

Filed Date: 10/31/12.

Accession Number: 20121031-5387.

Comments Due: 5 p.m. e.t. 11/21/12.

Take notice that the Commission received the following electric rate filings:

Docket Numbers: ER11-2780-007.

Applicants: Safe Harbor Water Power Corporation.

Description: Notice of Change in Status of Safe Harbor Water Power Corporation.

Filed Date: 10/31/12.

Accession Number: 20121031-5353.

Comments Due: 5 p.m. e.t. 11/21/12.

Docket Numbers: ER12-60-003; ER10-1632-003; ER10-1616-001; ER10-1585-001; ER10-1594-001; ER10-1617-001; ER10-1628-001.

Applicants: New Covert Generating Company, LLC, Tenaska Power Services Co., Tenaska Power Management, LLC, Alabama Electric Marketing, LLC, California Electric Marketing, LLC, New Mexico Electric Marketing, LLC, Texas Electric Marketing, LLC.

Description: Updated Market Power Analysis for the Central Region on behalf of Tenaska Power Management, LLC, et al.

Filed Date: 10/31/12.

Accession Number: 20121031-5351.

Comments Due: 5 p.m. e.t. 11/21/12.

Docket Numbers: ER12-569-001; 1920-002; ER10-1928-002; ER12-895-001; ER10-2720-002; ER11-4428-002; ER10-1971-006.

Applicants: Blackwell Wind, LLC, FPL Energy Oklahoma Wind, LLC, FPL Energy Sooner Wind, LLC, Minco Wind Interconnection Services, LLC, Minco Wind, LLC, Minco Wind II, LLC, NextEra Energy Power Marketing, LLC.

Description: Notification of Non-material Change in Status of the NextEra Resource Entities.

Filed Date: 10/31/12.

Accession Number: 20121031-5393.

Comments Due: 5 p.m. e.t. 11/21/12.

Docket Numbers: ER12-2291-000.

Applicants: New England Power Company.

Description: Refund Report of New England Power Company in Docket No. ER12-2291 to be effective N/A.

Filed Date: 10/31/12.

Accession Number: 20121031-5268.

Comments Due: 5 p.m. e.t. 11/21/12.

Docket Numbers: ER12-2304-002.

Applicants: Green Mountain Power Corporation, ISO New England Inc.

Description: Green Mountain Power Notice of Effective Date Schedule 21 and Schedule 20A to be effective 10/1/2012.

Filed Date: 10/31/12.

Accession Number: 20121031-5030.

Comments Due: 5 p.m. e.t. 11/21/12.

Docket Numbers: ER13-150-001.

Applicants: Northern Indiana Public Service Company, Midwest Independent Transmission System Operator, Inc.

Description: 10-31-12 NIPSCO Amendment to be effective 1/1/2013.

Filed Date: 10/31/12.

Accession Number: 20121031-5259.

Comments Due: 5 p.m. e.t. 11/21/12.

Docket Numbers: ER13-226-000.

Applicants: Southern California Edison Company.

Description: 2013 TRBAA Update Filing to be effective 1/1/2013.

Filed Date: 10/31/12.

Accession Number: 20121031-5003.

Comments Due: 5 p.m. e.t. 11/21/12.

Docket Numbers: ER13-227-000.

Applicants: Southern California Edison Company.

Description: 2013 RSBAA Update Filing to be effective 1/1/2013.

Filed Date: 10/31/12.

Accession Number: 20121031-5014.

Comments Due: 5 p.m. e.t. 11/21/12.

Docket Numbers: ER13-228-000.

Applicants: Pacific Gas and Electric Company.

Description: CCSF IA—39th Quarterly Filing of Facilities Agreements to be effective 9/30/2012.

Filed Date: 10/31/12.

Accession Number: 20121031-5016.

Comments Due: 5 p.m. e.t. 11/21/12.

Docket Numbers: ER13-229-000.

Applicants: Green Mountain Power Corporation, ISO New England Inc.

Description: GMP—Notice of Succession for Service Agreement No. 69 to be effective 10/1/2012.

Filed Date: 10/31/12.

Accession Number: 20121031-5029.

Comments Due: 5 p.m. e.t. 11/21/12.

Docket Numbers: ER13-230-000.

Applicants: Northern Iowa Windpower II LLC.

Description: Corrected Tariff Revisions to be effective 6/30/2012.

Filed Date: 10/31/12.

Accession Number: 20121031-5066.

Comments Due: 5 p.m. e.t. 11/21/12.

Docket Numbers: ER13-231-000.

Applicants: Northern States Power Company, a Minnesota corporation.

Description: 2012-10-31-Ada-Kasota-Intercon-Agmnts to be effective 12/31/2012.

Filed Date: 10/31/12.

Accession Number: 20121031-5067.

Comments Due: 5 p.m. e.t. 11/21/12.

Docket Numbers: ER13-232-000.

Applicants: AEP Generation Resources Inc.

Description: Ohio Power Supply Agreement to be effective 1/1/2014.

Filed Date: 10/31/12.

Accession Number: 20121031-5096.

Comments Due: 5 p.m. e.t. 11/30/12.

Docket Numbers: ER13-233-000.

Applicants: Appalachian Power Company.

Description: Power Coordination Agreement and Bridge Agreement to be effective 1/1/2014.

Filed Date: 10/31/12.

Accession Number: 20121031-5097.

Comments Due: 5 p.m. e.t. 11/30/12.

Docket Numbers: ER13-234-000.

Applicants: Kentucky Power Company.

Description: Power Coordination Agreement and Bridge Agreement Concurrence to be effective 1/1/2014.

Filed Date: 10/31/12.

Accession Number: 20121031-5098.

Comments Due: 5 p.m. e.t. 11/30/12.

Docket Numbers: ER13-235-000.

Applicants: Indiana Michigan Power Company.

Description: Power Coordination Agreement and Bridge Agreement Concurrence to be effective 1/1/2014.

Filed Date: 10/31/12.

Accession Number: 20121031-5101.

Comments Due: 5 p.m. e.t. 11/30/12.

Docket Numbers: ER13-236-000.

Applicants: AEP Generation Resources Inc.

Description: Bridge Agreement Concurrence to be effective 1/1/2014.

Filed Date: 10/31/12.

Accession Number: 20121031-5104.

Comments Due: 5 p.m. e.t. 11/30/12.

Docket Numbers: ER13-237-000.

Applicants: Ohio Power Company.

Description: Bridge Agreement Concurrence to be effective 1/1/2014.

Filed Date: 10/31/12.

Accession Number: 20121031-5105.

Comments Due: 5 p.m. e.t. 11/30/12.

Docket Numbers: ER13-238-000.

Applicants: Appalachian Power Company.

Description: Sporn and Mitchell Operating Agreements to be effective 1/1/2014.

Filed Date: 10/31/12.

Accession Number: 20121031-5106.

Comments Due: 5 p.m. e.t. 12/17/12.

Docket Numbers: ER13-239-000.

Applicants: Kentucky Power Company.

Description: Mitchell Operating Agreement Concurrence to be effective 1/1/2014.

Filed Date: 10/31/12.

Accession Number: 20121031-5107.

Comments Due: 5 p.m. e.t. 12/17/12.

Docket Numbers: ER13-240-000.

Applicants: AEP Generation Resources Inc.

Description: Sporn Operating Agreement Concurrence to be effective 1/1/2014.

Filed Date: 10/31/12.

Accession Number: 20121031-5109.

Comments Due: 5 p.m. e.t. 12/17/12.

Docket Numbers: ER13-241-000.

Applicants: PJM Interconnection, L.L.C.

Description: Original SA No. 3410; Queue No. W4-029 & Y1-075 (Reeves South) to be effective 10/12/2012.

Filed Date: 10/31/12.

Accession Number: 20121031-5117.

Comments Due: 5 p.m. e.t. 11/21/12.

Docket Numbers: ER13-242-000.

Applicants: Midwest Independent Transmission System Operator, Inc.

Description: SA 2013 G586 Amended GIA to be effective 11/1/2012.

Filed Date: 10/31/12.

Accession Number: 20121031-5118.

Comments Due: 5 p.m. e.t. 11/21/12.

Docket Numbers: ER13-243-000.

Applicants: PJM Interconnection, L.L.C.

Description: Original SA No. 3411; Queue No. W4-029 & Y1-075 (Reeves North) to be effective 10/12/2012.

Filed Date: 10/31/12.

Accession Number: 20121031-5123.

Comments Due: 5 p.m. e.t. 11/21/12.

Docket Numbers: ER13-244-000.

Applicants: Green Mountain Power Corporation.

Description: Notice of Succession and Establishment of New eTariff Database to be effective 10/31/2012.

Filed Date: 10/31/12.

Accession Number: 20121031-5125.

Comments Due: 5 p.m. e.t. 11/21/12.

Docket Numbers: ER13-245-000.

Applicants: Green Mountain Power Corporation, Central Vermont Public Service Corporation.

Description: Cancellation of Central Vermont eTariff Database to be effective 10/31/2012.

Filed Date: 10/31/12.

Accession Number: 20121031-5136.

Comments Due: 5 p.m. e.t. 11/21/12.

Docket Numbers: ER13-246-000.

Applicants: Southern California Edison Company.

Description: SCE 2013 Update ETC Reliability Services Rate to be effective 1/1/2013.

Filed Date: 10/31/12.

Accession Number: 20121031-5165.

Comments Due: 5 p.m. e.t. 11/21/12.

Docket Numbers: ER13-247-000.

Applicants: NV Energy, Inc.

Description: Transmission Rate Case—SPPC to be effective 1/1/2013.

Filed Date: 10/31/12.

Accession Number: 20121031-5179.

Comments Due: 5 p.m. e.t. 11/21/12.

Docket Numbers: ER13-249-000.

Applicants: Southwest Power Pool, Inc.

Description: 1313R6 Oklahoma Gas & Electric NITSA NOA to be effective 10/1/2012.

Filed Date: 10/31/12.

Accession Number: 20121031-5195.

Comments Due: 5 p.m. e.t. 11/21/12.

Docket Numbers: ER13-250-000.

Applicants: Luminescent Systems, Inc.

Description: Cancellation of Tariff to be effective 11/1/2012.

Filed Date: 10/31/12.

Accession Number: 20121031-5218.

Comments Due: 5 p.m. e.t. 11/21/12.

Docket Numbers: ER13-251-000.

Applicants: Arizona Public Service Company.

Description: APS Service Agreement No. 327-Azusa Simultaneous Exchange to be effective 1/1/2013.

Filed Date: 10/31/12.

Accession Number: 20121031-5222.

Comments Due: 5 p.m. e.t. 11/21/12.

Docket Numbers: ER13-252-000.

Applicants: Entergy Gulf States Louisiana, L.L.C.

Description: EGSL-SRMPA Extension of Interim Agreement to be effective 1/1/2013.

Filed Date: 10/31/12.

Accession Number: 20121031-5229.

Comments Due: 5 p.m. e.t. 11/21/12.

Docket Numbers: ER13-253-000.

Applicants: Entergy Arkansas, Inc.

Description: EAI Filing of Unexecuted Reimbursement Agreement with AECC to be effective 1/1/2013.

Filed Date: 10/31/12.

Accession Number: 20121031-5235.

Comments Due: 5 p.m. e.t. 11/21/12.

Docket Numbers: ER13-254-000.

Applicants: Midwest Independent Transmission System Operator, Inc.

Description: 10-31-12 ATC Attachment FF to be effective 12/30/2012.

Filed Date: 10/31/12.

Accession Number: 20121031-5243.

Comments Due: 5 p.m. e.t. 11/21/12.

Docket Numbers: ER13-255-000.

Applicants: NV Energy, Inc.

Description: Transmission Rate Case—NPC to be effective 1/1/2013.

Filed Date: 10/31/12.

Accession Number: 20121031-5246.

Comments Due: 5 p.m. e.t. 11/21/12.

Docket Numbers: ER13-256-000.

Applicants: Exelon Energy Company.

Description: Exelon Energy Company, Notice of Cancellation to be effective 11/1/2012.

Filed Date: 10/31/12.

Accession Number: 20121031-5250.

Comments Due: 5 p.m. e.t. 11/21/12.

Docket Numbers: ER13-257-000.

Applicants: PJM Interconnection, L.L.C.

Description: Queue Position V2-028; Original Service Agreement No. 3413 to be effective 9/28/2012.

Filed Date: 10/31/12.

Accession Number: 20121031-5251.

Comments Due: 5 p.m. e.t. 11/21/12.

Docket Numbers: ER13-258-000.

Applicants: California Independent System Operator Corporation.

Description: 2012-10-31 CAISO Amendment 7 to the PLA with CDWR to be effective 11/1/2012.

Filed Date: 10/31/12.

Accession Number: 20121031-5255.

Comments Due: 5 p.m. e.t. 11/21/12.

Docket Numbers: ER13-259-000.

Applicants: Oklahoma Gas and Electric Company.

Description: Revisions to Depreciation Rates to be effective 8/2/2012.

Filed Date: 10/31/12.

Accession Number: 20121031-5256.

Comments Due: 5 p.m. e.t. 11/21/12.

Docket Numbers: ER13-260-000.

Applicants: Dynegy Oakland, LLC.

Description: Annual RMR Section 205 Filing and RMR Schedule F Informational Filing to be effective 1/1/2013.

Filed Date: 10/31/12.

Accession Number: 20121031-5260.

Comments Due: 5 p.m. e.t. 11/21/12.

Docket Numbers: ER13-261-000.

Applicants: California Power Exchange Corporation.

Description: Rate Filing for Rate Period 22 to be effective 1/1/2013.

Filed Date: 10/31/12.

Accession Number: 20121031-5273.

Comments Due: 5 p.m. e.t. 11/21/12.

Docket Numbers: ER13-262-000.

Applicants: Central Maine Power Company.

Description: Warren Interconnection Agreement to be effective 11/1/2012.

Filed Date: 10/31/12.

Accession Number: 20121031-5277.

Comments Due: 5 p.m. e.t. 11/21/12.

Docket Numbers: ER13-263-000.

Applicants: Midwest Independent Transmission System Operator, Inc.

Description: 10-31-12 to be effective 1/1/2013.

Filed Date: 10/31/12.

Accession Number: 20121031-5279.

Comments Due: 5 p.m. e.t. 11/21/12.

Docket Numbers: ER13-264-000.

Applicants: Oklahoma Gas and Electric Company.

Description: Revisions to Formula Rate to be effective 8/2/2012.

Filed Date: 10/31/12.

Accession Number: 20121031-5280.

Comments Due: 5 p.m. e.t. 11/21/12.

Docket Numbers: ER13-265-000.

Applicants: Nevada Power Company.

Description: Rate Schedule No. 134 Interim Balancing Area Services Agreement-VEA to be effective 11/1/2012.

Filed Date: 10/31/12.

Accession Number: 20121031-5281.

Comments Due: 5 p.m. e.t. 11/21/12.

Docket Numbers: ER13-267-000.

Applicants: Northern States Power Company, a Minnesota corporation, Northern States Power Company, a Wisconsin corporation.

Description: Northern States Power Company, a Minnesota corporation, et al. submit a Notice of Cancellation of the Restated Electric Service Agreement with Rice Lake, Wisconsin.

Filed Date: 10/31/12.

Accession Number: 20121031-5366.

Comments Due: 5 p.m. e.t. 11/21/12.

Docket Numbers: ER13-268-000.

Applicants: Northern States Power Company, a Wisconsin corporation.

Description: Northern States Power Company, a Wisconsin corporation submits a Notice of Cancellation of the Restated Interconnection and Power and Energy Supply Agreement with the Village of Bangor, Wisconsin.

Filed Date: 10/31/12.

Accession Number: 20121031-5391.

Comments Due: 5 p.m. e.t. 11/21/12.

Take notice that the Commission received the following electric securities filings:

Docket Numbers: ES13-5-000.

Applicants: ITC Arkansas LLC, ITC Louisiana LLC, ITC Mississippi LLC, ITC Texas LLC.

Description: Application under Section 204 of the Federal Power Act for Authorization to Issue Debt Securities of ITC Arkansas LLC, ITC Louisiana LLC, ITC Mississippi LLC and ITC Texas LLC.

Filed Date: 10/31/12.

Accession Number: 20121031-5386.

Comments Due: 5 p.m. e.t. 11/21/12.

Docket Numbers: ES13-6-000.

Applicants: Entergy Services, Inc., Transmission Company Arkansas, LLC, Transmission Company Louisiana I, LLC, Transmission Company Louisiana II, LLC, Transmission Company Mississippi, LLC, Transmission Company New Orleans, LLC, Transmission Company Texas, LLC.

Description: Application under Section 204 of the Federal Power Act for Authorization to Issue Debt Securities of Transmission Company Arkansas, LLC, et al.

Filed Date: 10/31/12.

Accession Number: 20121031-5390.

Comments Due: 5 p.m. e.t. 11/21/12.

Take notice that the Commission received the following land acquisition reports:

Docket Numbers: LA12-3-000.

Applicants: Ashtabula Wind, LLC, Ashtabula Wind II, LLC, Ashtabula Wind III, LLC, Backbone Mountain Windpower LLC, Badger Windpower, LLC, Baldwin Wind, LLC, Bayswater Peaking Facility, LLC, Blackwell Wind, LLC, Butler Ridge Wind Energy Center, LLC, Crystal Lake Wind, LLC, Crystal Lake Wind II, LLC, Crystal Lake Wind III, LLC, Day County Wind, LLC, Diablo Winds, LLC, Elk City Wind, LLC, Elk City II Wind, LLC, Ensign Wind, LLC, ESI Vansycle Partners, L.P., Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Maine Hydro LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, FPL Energy Wyoming, LLC, Garden Wind, LLC, Gray County Wind Energy, LLC, Hatch Solar Energy Center I, LLC, Hawkeye Power Partners, LLC, High Majestic Wind Energy Center, LLC, High Winds, LLC, High Majestic Wind II, LLC, Jamaica Bay Peaking Facility, LLC, Lake Benton Power Partners II, LLC, Langdon Wind, LLC, Limon Wind, LLC, Limon Wind II, LLC, Logan Wind Energy LLC, Meyersdale Windpower LLC, Mill Run Windpower, LLC, Minco Wind, LLC, Minco Wind II, LLC, Minco Wind III, LLC, Minco Wind Interconnection Services, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Paradise Solar Urban Renewal, L.L.C., Peetz Table Wind Energy, LLC, Pennsylvania Windfarms, Inc., Perrin Ranch Wind, LLC, Red Mesa Wind, LLC, Sky River LLC, Somerset Windpower, LLC, Story Wind, LLC, Tuscola Bay Wind, LLC, Vasco Winds, LLC, Victory Garden Phase IV, LLC, Waymart Wind Farm, L.P., Wessington Wind Energy Center, LLC, White Oak Energy LLC, Wilton Wind II, LLC, Windpower Partners 1993, L.P.

Description: Quarterly Land Acquisition Report of the NextEra Energy Companies.

Filed Date: 10/31/12.

Accession Number: 20121031-5385.

Comments Due: 5 p.m. e.t. 11/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2012.
Nathaniel J. Davis, Sr.,
Deputy Secretary.

[FR Doc. 2012-27387 Filed 11-8-12; 8:45 am]

BILLING CODE 6717-01-P